ENVIRONMENTAL PROTECTION AGENCY

40 CFR Parts 19 and 27

[FRL-7539-3]

Civil Monetary Penalty Inflation Adjustment Rule

AGENCY: Environmental Protection Agency (EPA)

ACTION: Proposed Rule; Technical Corrections.

SUMMARY: EPA is correcting the proposed rule that appeared in the July 3, 2003 Federal Register at (68 FR 39882), entitled “Civil Monetary Penalty Inflation Adjustment Rule,” as mandated by the Debt Collection Improvement Act of 1996, to adjust EPA's civil monetary penalties for inflation on a periodic basis. This notice creates no new regulatory requirements. Rather, it corrects the effective date for the proposed rule which was mistakenly listed as July 3, 2003 in the Federal Register notice of the same date.

DATES: The comment period for the previously published proposal (68 FR 39882, July 3, 2003) ends on August 4, 2003.

ADDRESSES: Mail written comments to the Docket Office, Enforcement & Compliance Docket and Information Center (2201AT), Docket Number EC-2001-008, U.S. Environmental Protection Agency, EPA West, 1200 Pennsylvania Avenue, NW., Room B133, Washington, DC 20460 (in triplicate, if possible). Please use a font size no smaller than 12. Written comments may be delivered in person to: U.S. Environmental Protection Agency, EPA West, 1301 Constitution Avenue, NW., Room B133, Washington, DC 20460. Comments may also be submitted electronically to docket.oeca@epa.gov or faxed to (202) 566-1511. Attach electronic comments as an ASCii (text) file, and avoid the use of special characters and any form of encryption. Be sure to include the docket number, EC-2001-008, on your document. Public comments, if any, may be reviewed at the Enforcement and Compliance Docket Information Center, U.S. Environmental Protection Agency, EPA West, 1301 Constitution Avenue, NW., Room B133, Washington, DC 20460. Persons interested in reviewing this docket may do so by calling (202) 566-1512.

FOR FURTHER INFORMATION CONTACT: David Abdalla, Office of Regulatory Enforcement, Multimedia Enforcement Division, Mail Code 2248A, 1200 Pennsylvania Avenue, NW., Washington, DC 20460, (202) 564-2413.

SUPPLEMENTARY INFORMATION:

I. Reasons and Basis for Today's Notice

In its review of the July 3, 2003 proposed rule (68 FR 39882), issued pursuant to the Debt Collection Improvement Act of 1996 (Pub. L. 104-134, 110 Stat. 1321), EPA identified errors in certain sections of the regulatory language of the proposal referring to the effective date. Today's notice corrects these errors to reflect that the effective date of the final rule will be the date the final rule is published, and not July 3, 2003, the date on which the proposed rule was published.

II. Public Comment Period

Today's notice does not create any new regulatory requirement. EPA believes that the July 3, 2003 notice presented the substance of the proposed rule sufficiently to allow interested persons to understand all aspects of the proposed rule and to make comments. Consequently, EPA finds that it is not necessary to extend the comment period for the proposed rule. The comment period will still close on August 4, 2003.

Dated: July 29, 2003.
John Peter Suarez,
Assistant Administrator for Enforcement and Compliance Assurance.

The following corrections are made to FRL-7522-4 Civil Monetary Penalty Inflation Adjustment Rule; Proposed Rule, published in the Federal Register on July 3, 2003 (68 FR 39882):

1. In Section 19.2 of the regulatory text, change both references to the date “July 3, 2003” to “[date of publication of final rule].”

2. In footnote 1 to Section 27.3(a)(1)(iv) of the regulatory text, change the reference to the date “July 3, 2003” to “[date of publication of final rule].”

[FR Doc. 03-19738 Filed 8-1-03; 8:45 am]

BILLING CODE 6560-50-P